DEPARTMENT OF ENERGY
Federal Energy Regulatory Commission
[Docket No. EC04-56-000, et al.]
Hardee Power Partners Limited, et al.; Electric Rate and Corporate Filings
January 23, 2004.
The following filings have been made with the Commission. The filings are listed in ascending order within each docket classification.
1. Hardee Power Partners Limited, and GTCR Golder Rauner, LLC
[Docket No. EC04-56-000]
Take notice that on January 22, 2004, Hardee Power Partners Limited (HPP) and GTCR Golder Rauner, LLC (GTCR) (collectively, Applicants), tendered for filing with the Commission, pursuant to section 203 of the Federal Power Act and part 33 of the Commission's regulations, an application for authorization to reorganize GTCR's interest in HPP. Pursuant to 18 CFR 33.9 (2003), the Applicants seek privileged treatment for Exhibites C-2 and C-4 of the Application.

Comment Date: February 12, 2004.
2. New York Municipal Power Agency v. New York State Electric & Gas Corporation
[Docket No. EL04-56-000]
On January 16, 2004, the New York Municipal Power Authority, on behalf of its affected member municipal systems (NYMPA) filed a complaint concerning certain elements of the Transmission Service Charge currently assessed by the New York State Electric & Gas Corporation (NYSEG) under Attachment H of the Open Access Transmission Tariff of the New York Independent System Operator, Inc. A notice of complaint was issued on January 20, 2004. Subsequently, on January 20, 2004, NYMPA and NYSEG filed a proposed stipulation and agreement that would, if approved by the Commission, resolve all issues raised by the complaint.
NYMPA and NYSEG also filed a joint motion requesting that the Commission suspend the time for filing answers to the original complaint which the issuance of this superceding notice resolves.

Comment Date: February 9, 2004.
3. Denver City Energy Associates, LP
[Docket No. ER97-4084-009]
Take notice that on January 14, 2004, Denver City Energy Associates, L.P. submitted a compliance filing in response to the Commission's Order issued December 15, 2003, in Docket No. ER97-4084-000 to incorporate the Market behavior rules adopted by the Commission in the November 17, 2003, Order Amending Market-based Rate Tariffs and Authorizations, in Docket Nos. EL01-118-000 and 001.

Comment Date: January 30, 2004.
4. Camden Cogen, LP, Capital District Energy Center, Cogeneration Associates, Cogen Technologies NJ Venture, Front Range Power Company, LLC, Pawtucket Power Associates Limited Partnership, and Vandolah Power Company, LLC
[Docket Nos. ER01-2756-003, ER02-579-002, ER02-1486-002, ER02-1173-002, ER02-580-002, and ER02-1336-002]
Take notice that on January 12 and 14, 2004, the above referenced companies filed amendments to their filings of December 17, 2003, that were submitted in compliance with Commission's Order issued November 17, 2003, in Docket Nos. EL01-118-000 and 001.

Comment Date: January 30, 2004.

5. California Independent System Operator Corporation
[Docket No. ER03-942-003]
Take notice that on January 15, 2004, the California Independent System Operator Corporation (ISO) submitted a filing to comply with the order issued in Docket No. ER03-942-000 on December 15, 2003, 105 FERC 61,284. The ISO states that the compliance filing has been served on all parties to these proceedings.

Comment Date: February 5, 2004.
6. MxEnergy Electric Inc.
[ Docket No. ER04-170-002]
Take notice that on January 15, 2004, MxEnergy Electric Inc. submitted a compliance filing in response to the Commission's January 12, 2004, Order in Docket Nos. ER04-170-000 and 001 to incorporate the market behavior rules adopted by the Commission in the November 17, 2003, Order Amending Market-based Rate Tariffs and Authorizations, in Docket Nos. EL01-118-000 and 001.

Comment Date: January 30, 2004.
7. Great Bay Hydro Corporation
[Docket No. ER04-183-001]
Take notice that on January 16, 2004, Great Bay Hydro Corporation (Great Bay Hydro) tendered for filing a revised market-based rate tariff in compliance with the Commission's December 19, 2003, Letter Order in Docket No. ER04-183-000 to incorporate the market behavior rules adopted by the Commission in the November 17, 2003, Order Amending Market-based Rate Tariffs and Authorizations in Docket Nos. EL01-118-000 and 001. Great Bay Hydro requests an effective date of December 17, 2003.
Great Bay Hydro states that a copy of the filing was served on the New Hampshire Public Utilities Commission.

Comment Date: January 30, 2004.
8. California Independent System Operator Corporation
[Docket No. ER04-286-001]

Take notice that on January 16, 2004, the California Independent System Operator Corporation (ISO) submitted an informational filing in accordance with Article IX, section B of the offer of settlement filed in Docket Nos. ER98-441-000, et al., on April 2, 1999, concerning a notice the ISO received from an RMR Owner on December 30, 2003, stating that the RMR Owner wished to retract a notice that the ISO had submitted in the December 12, 2003, filing submitted in the captioned proceeding. ISO states that as required by Article IX, section B of the Stipulation and Agreement approved by the Commission on May 28, 1999, California Independent System Operator Corporation, 87 FERC ¶ 61,250, the ISO has provided notice of the changes described in the December 30, 2003, notice (subject to the applicable Non-Disclosure and Confidentiality Agreement in the RMR Contract) to the designated RMR contact persons at the California Agencies, the applicable responsible utility, and the relevant RMR Owner.

Comment Date: February 6, 2004.
9. International Transmission Company
[Docket Nos. ER03-343-003 and EC03-40-000]
Take notice that on December 17, 2003, International Transmission Company (ITC) filed a status report with the Commission. ITC states that in approving the transfer of interstate transmission assets from Detroit Edison Company (Detroit Edison) to ITC in an Order issued February 20, 2003, in Docket Nos. ER03-343-000 and EC03-40-000, the Commission limited the term of ITC's service level agreements with Detroit Edison to one year (March 1, 2003, through February 29, 2004) and otherwise conditioned the replacement of the service level agreements. ITC states that the purpose of the instant filing is to report to the Commission that ITC will replace the service level agreements with internal company resources and new contracts with independent third parties on or before the March 1, 2004, deadline.
ITC states that it has served copies of this filing upon the parties on the official service list and the Michigan Public Service Commission. ITC further states that it also filed confidential materials with the Commission under separate cover in this filing and it will make the confidential materials available to any party upon the execution of a confidentiality agreement.

Comment Date: February 3, 2004.
10. Wisconsin Public Service Corporation
[Docket No. ER04-354-001]
Take notice that on January 15, 2004, Wisconsin Public Service Corporation (WPSC) tendered for filing a redesignated revised rate schedule sheet (Redesignated Revised Sheet) in Exhibit G to WPSC's Second Revised Rate Schedule FERC No. 51 with the City of Marshfield. WPSC states the Redesignated Revised Sheet has been modified to reflect the appropriate designations.
WPSC respectfully requests that the Commission allow the Redesignated Revised Sheet to become effective on January 1, 2004, the same date WPSC requested in its December 31, 2003, filing in this proceeding.
WPSC further states that copies of this filing have been served on the Commission's official service list, the City of Marshfield and the Public Service Commission of Wisconsin.

Comment Date: February 5, 2004.
11. PJM Interconnection, LLC
[Docket No. ER04-367-001]
Take notice that on January 12, 2004, PJM Interconnection, LLC (PJM) and Commonwealth Edison Company and Commonwealth Edison Company of Indiana, Inc. (ComEd) filed four corrected revised sheets to the PJM Open Access Transmission tariff (Tariff) to replace sheets submitted with their December 31, 2003, filing in Docket No. ER04-367-000.
PJM and ComEd stated that, consistent with the effective date requested in the December 31 filing, they request that the submitted sheets become effective on May 1, 2004.
PJM states that copies of this filing were served on all PJM members, the utility regulatory commissions in the PJM region, and all persons on the service list for this proceeding.

Comment Date: February 2, 2004.
12. Southern California Edison Company
[Docket No. ER04-409-000]
Take notice that on January 16, 2004, Southern California Edison Company (SCE) tendered for filing a revision to its Transmission Owner Tariff, FERC Electric Tariff, Second Revised Volume No. 6, Appendix III to reflect the annual update of the Transmission Access Charge Balancing Account Adjustment. SCE requests that the filing be made effective February 1, 2004.
SCE states that copies of this filing were served upon the Public Utilities Commission of the State of California, the California Independent System Operator, Pacific Gas and Electric Company, San Diego Gas & Electric Company, and the Cities of Anaheim, Azusa, Banning, Reiverside, and Vermon, California.

Comment Date: February 6, 2004.
Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-156 Filed 1-29-04; 8:45 am]
BILLING CODE 6717-01-P